PENSION BENEFIT GUARANTY CORPORATION

Privacy Act of 1974; System of Records

AGENCY: Pension Benefit Guaranty Corporation.

ACTION: Notice of a new system of records—PBGC-15, Emergency Notification Records—PBGC.

SUMMARY: The Pension Benefit Guaranty Corporation (PBGC) is establishing a new system of records, PBGC-15, Emergency Notification Records—PBGC, subject to the Privacy Act of 1974, as amended. Emergency contact information from the new system of records will be used, in the event of an emergency, disaster, or other event that affects PBGC's operations, to issue special instructions and announcements to PBGC employees and contractors through an automated calling and notification system, and for other related purposes.

DATES: Comments on the new system of records and proposed routine uses must be received on or before June 27, 2005. The new system of records will become effective July 11, 2005, without further notice, unless comments result in a contrary determination and a notice is published to that effect.

ADDRESSES: Comments may be mailed to the Office of the General Counsel, Pension Benefit Guaranty Corporation, 1200 K Street, NW., Washington, DC 20005-4026, or delivered to Suite 340 at that address during normal business hours. Comments also may be submitted electronically through the PBGC's Web site at http://www.pbgc.gov/privacyact, or by fax to 202-326-4112. The PBGC will make all comments available on its Web site, http://www.pbgc.gov. Copies of the comments may also be obtained by writing to the PBGC's Communications and Public Affairs Department at Suite 240 at the above address or by visiting that office or calling 202-326-4040 during normal business hours. (TTY and TDD users may call the Federal relay service toll-free at 1-800-877-8339 and ask to be connected to 202-326-4040.)

FOR FURTHER INFORMATION CONTACT: D. Bruce Campbell, Attorney, Pension Benefit Guaranty Corporation, Office of the General Counsel, 1200 K Street, NW., Washington, DC 20005-4026; 202-326-4000 Ext. 3672. (For TTY/TDD users, call the Federal relay service toll-free at 1-800-877-8339 and ask to be connected to 202-326-4024.)

SUPPLEMENTARY INFORMATION: As part of its continuity of operations plan, the PBGC is implementing an automated messaging and notification system to disseminate special instructions and announcements to PBGC employees and contractors if an emergency, natural disaster, or other event occurs that affects PBGC's operations. Employees and contractors will be assigned user IDs and passwords to access the system through the PBGC's intranet website and instructed to input personal telephone, cell, or pager numbers, or personal electronic mail addresses where they can be reached during off-duty hours to receive information about PBGC's operating status. When an emergency occurs, authorized PBGC officials will record telephone messages or write electronic mail messages for the automated messaging and notification system to disseminate to all or selected groups of PBGC employees and contractors at the telephone numbers or electronic mail addresses they provided. To ensure that emergency contact information remains current, employees and contractors will be periodically reminded to access the system using their password to make any necessary changes.

Under the PBGC's continuity of operations plan, certain authorized PBGC employees will have access to paper printouts of all or relevant portions of the emergency contact information to use to make telephone calls or send e-mail messages to employees and contractors about the PBGC's operations if the automated messaging and notification system is unavailable. The emergency contact information will also be used by authorized employees on an occasional basis to contact an employee or contractor who is out of the office on leave or after regular duty hours to obtain information necessary for official business, or to contact friends or family members if an employee or contractor experiences a medical emergency in the workplace.

PBGC general routine uses G1, Law Enforcement, G4, Disclosure in Litigation, G5, Disclosure to the Department of Justice in Litigation, and G7, Congressional Inquiries apply to this system of records. These routine uses were published as the PBGC's Prefatory Statement of General Routine Uses at 60 FR 57462, 57563 (Nov. 15, 1995).

Issued in Washington, DC this 19th day of May, 2005.
Bradley D. Belt,
Executive Director, Pension Benefit Guaranty Corporation.

PBGC-15

System name:

PBGC-15, Emergency Notification Records—PBGC.

Security classification:

Not applicable.

System location:

Pension Benefit Guaranty Corporation, 1200 K Street NW., Washington, DC 20005-4026.

Categories of individuals covered by the system:

PBGC employees and individuals who work for the PBGC as contractors or as employees of contractors.

Categories of records in the system:

Records include name, title, organizational component, employer, PBGC and personal telephone numbers, PBGC and personal e-mail addresses, other contact information, user ID, a temporary, PBGC-issued password, and a user-selected password.

Authority for maintenance of the system:

29 U.S.C. 1302; E.O. 12,656, 53 FR 47491 (1988); Presidential Decision Directive 67 (1998).

Purpose(s):

This system of records is maintained for use in notifying PBGC employees and individuals who work for the PBGC as contractors or employees of contractors of PBGC's operating status in the event of an emergency, natural disaster or other event affecting PBGC operations; for contacting employees or contractors who are out of the office on leave or after regular duty hours to obtain information necessary for official business; or to contact friends or family members if an employee or contractor experiences a medical emergency in the workplace.

Routine uses of records maintained in the system, including categories of users and the purposes of such uses:

PBGC General Routine Uses G1, G4, G5, and G7 apply to this system of records

(See Prefatory Statement of General Routine Uses, 60 FR 57462, 57563 (1995)).

Policies and practices for storing, retrieving, accessing, retaining, and disposing of records in the system:

Storage:

Records are maintained an electronic database that is available to authorized PBGC employees and contractors who have been granted access to PBGC's intranet website.

Retrievability:

Records are indexed by name, organizational component, or user ID and password.

Safeguards:

The PBGC has adopted appropriate administrative, technical, and physical controls in accordance with the PBGC's Automated Information Systems Security Program to protect the security, integrity, and availability of the information, and to assure that records are not disclosed to or accessed by unauthorized individuals.

Retention and disposal:

Records are maintained until they are out of date.

System manager(s) and address:

Director, Facilities and Services Department, Pension Benefit Guaranty Corporation, 1200 K Street, NW., Washington, DC 20005-4026.

Notification procedure:

Procedures are detailed in PBGC regulations: 29 CFR part 4902.

Record access procedures:

An employee or contractor may access his or her record with a valid user-id and password via the electronic notification and messaging system through the PBGC's intranet website, or by following the procedures outlined at 29 CFR part 4902.

Contesting record procedures:

Same as notification procedure.

Record source categories:

Subject individual.

Exemptions claimed for the system:

None.

[FR Doc. 05-10575 Filed 5-25-05; 8:45 am]

BILLING CODE 7708-01-P